ENVIRONMENTAL PROTECTION AGENCY

40 CFR Part 180

[EPA-HQ-OPP-2006-0483; FRL-8131-6]

Chlorpropham, Linuron, Pebulate, Asulam, and Thiophanate-methyl; Tolerance Actions

AGENCY: Environmental Protection Agency (EPA).

ACTION: Final rule.

SUMMARY: EPA is revoking certain tolerances for the herbicides linuron and pebulate and the fungicide thiophanate-methyl. Also, EPA is modifying certain tolerances for the herbicides chlorpropham, linuron, asulam and the fungicide thiophanate-methyl. In addition, EPA is establishing new tolerances for the herbicides chlorpropham, linuron, asulam and the fungicide thiophanate-methyl. The regulatory actions in this document are part of the Agency's reregistration program under the Federal Food, Drug, and Cosmetic Act (FFDCA) section 408(q), as amended by the Food Quality Protection Act (FQPA) of 1996.

DATES: This regulation is effective July 11, 2007. Objections and requests for hearings must be received on or before September 10, 2007, and must be filed in accordance with the instructions provided in 40 CFR part 178 (see also Unit I.C. of the SUPPLEMENTARY INFORMATION).

ADDRESSES: EPA has established a docket for this action under docket identification (ID) number EPA-HQ-OPP-2006-0483. To access the electronic docket, go to http://www.regulations.gov, select “Advanced Search,” then “Docket Search.” Insert the docket ID number where indicated and select the “Submit” button. Follow the instructions on the regulations.gov web site to view the docket index or access available documents. All documents in the docket are listed in the docket index available in regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Jane Smith, Special Review and Reregistration Division (7508P), Office of Pesticide Programs, Environmental Protection Agency, 1200 Pennsylvania Ave., NW., Washington, DC 20460-0001; telephone number: (703) 308-0048; e-mail address: smith.jane-scott@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111), e.g., agricultural workers; greenhouse, nursery, and floriculture workers; farmers.

• Animal production (NAICS code 112), e.g., cattle ranchers and farmers, dairy cattle farmers, livestock farmers.

• Food manufacturing (NAICS code 311), e.g., agricultural workers; farmers; greenhouse, nursery, and floriculture workers; ranchers; pesticide applicators.

• Pesticide manufacturing (NAICS code 32532), e.g., agricultural workers; commercial applicators; farmers; greenhouse, nursery, and floriculture workers; residential users.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Access Electronic Copies of this Document?

In addition to accessing an electronic copy of this Federal Register document through the electronic docket at http://www.regulations.gov, you may access this “Federal Register” document electronically through the EPA Internet under the “Federal Register” listings at http://www.epa.gov/fedrgstr. You may also access a frequently updated electronic version of 40 CFR part 180 through the Government Printing Office's pilot e-CFR site at http://www.gpoaccess.gov/ecfr.

C. Can I File an Objection or Hearing Request?

Under section 408(g) of the FFDCA, as amended by the FQPA, any person may file an objection to any aspect of this regulation and may also request a hearing on those objections. The EPA procedural regulations which govern the submission of objections and requests for hearings appear in 40 CFR part 178. You must file your objection or request a hearing on this regulation in accordance with the instructions provided in 40 CFR part 178. To ensure proper receipt by EPA, you must identify docket ID number EPA-HQ-OPP-2006-0483 in the subject line on the first page of your submission. All requests must be in writing, and must be mailed or delivered to the Hearing Clerk on or before September 10, 2007.

In addition to filing an objection or hearing request with the Hearing Clerk as described in 40 CFR part 178, please submit a copy of the filing that does not contain any CBI for inclusion in the public docket that is described in ADDRESSES. Information not marked confidential pursuant to 40 CFR part 2 may be disclosed publicly by EPA without prior notice. Submit your copies, identified by docket ID number EPA-HQ-OPP-2006-0483, by one of the following methods.

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

II. Background

A. What Action is the Agency Taking?

In the Federal Register of September 20, 2006 (71 FR 54953) (FRL-8078-2), EPA issued a proposed rule to revoke, remove, modify, and establish certain tolerances and/or tolerance exemption for residues for the herbicides chlorpropham, linuron, asulam and pebulate and the fungicide thiophanate-methyl. Also, the proposal of September 20, 2006 (71 FR 54953) (FRL-8078-2) provided a 60-day comment period which invited public comment for consideration and for support of tolerance retention under the Federal Food, Drug, and Cosmetic Act (FFDCA) standards.

EPA is revoking, removing, modifying, and establishing specific tolerances for residues of the herbicides chlorpropham, linuron, asulam and pebulate and the fungicide thiophanate-methyl in or on commodities listed in the regulatory text.

EPA is finalizing these tolerance actions in order to implement the tolerance recommendations made during the reregistration and tolerance reassessment processes (including follow-up on canceled or additional uses of pesticides). As part of the reregistration and tolerance reassessment processes, EPA is required to determine whether each of the amended tolerances meets the safety standards under the FQPA. The safety finding determination of “reasonable certainty of no harm” is found in detail in each Reregistration Eligibility Decision (RED) and Report on FQPA Tolerance Reassessment Progress and Interim Risk Management Decision (TRED) for the active ingredient. REDs and TREDs recommend certain tolerance actions to be implemented to reflect current use patterns, to meet safety findings and change commodity names and groupings in accordance with new EPA policy. Printed copies of REDs and TREDs may be obtained from EPA's National Service Center for Environmental Publications (EPA/NSCEP), P.O. Box 42419, Cincinnati, OH 45242-2419, telephone: 1-800-490-9198; fax: 1-513-489-8695; internet at http://www.epa.gov/ncepihom and from the National Technical Information Service (NTIS), 5285 Port Royal Road, Springfield, VA 22161, telephone: 1-800-553-6847 or (703) 605-6000; internet at http://www.ntis.gov. Electronic copies of REDs and TREDs are available on the internet at http:// www.epa.gov/pesticides/reregistration/status.htm.

In this final rule, EPA is revoking certain tolerances and tolerance exemptions because these specific tolerances and exemptions correspond to uses no longer current or registered under FIFRA in the United States. The tolerances revoked by this final rule are no longer necessary to cover residues of the relevant pesticides in or on domestically treated commodities or commodities treated outside but imported into the United States. It is EPA's general practice to revoke those tolerances and tolerance exemptions for residues of pesticide active ingredients on crop uses for which there are no active registrations under FIFRA, unless any person in comments on the proposal indicates a need for the tolerance or tolerance exemption to cover residues in or on imported commodities or domestic commodities legally treated.

EPA's policy is to issue a final rule revoking those tolerances for residues of pesticide chemicals for which there are no active registrations under FIFRA, unless any person commenting on the proposal demonstrates a need for the tolerance to cover residues in or on imported commodities or domestic commodities legally treated.

Generally, EPA will proceed with the revocation of these tolerances on the grounds discussed in Unit II.A. if one of the following conditions applies:

1. Prior to EPA's issuance of a section 408(f) order requesting additional data or issuance of a section 408(d) or (e) order revoking the tolerances on other grounds, commenters retract the comment identifying a need for the tolerance to be retained.

2. EPA independently verifies that the tolerance is no longer needed.

3. The tolerance is not supported by data that demonstrate that the tolerance meets the requirements under FQPA.

This final rule does not revoke those tolerances for which EPA received comments stating a need for the tolerance to be retained. In response to the proposal published in the Federal Register of September 20, 2006 (71 FR 54953) (FRL-8078-2), EPA received two comments during the 60-day public comment period, as follows:

Comment. A comment was received from a private citizen that expressed concern with pesticide residues in general and that pesticide residue levels should be zero. Concern was also expressed for the number of chemicals found in the bodies of adults and children.

Agency response. The private citizen's comment did not take issue with the Agency's conclusion that certain tolerances should be revoked, established and modified. The Agency conducts a detailed risk assessment to determine whether establishing and/or increasing tolerances is safe; i.e., there is a reasonable certainty that no harm will result from aggregate exposure to the pesticide chemical residue. Also, it is EPA's general practice to propose revocation of tolerances for residues of pesticide active ingredients on crop uses for which FIFRA registrations no longer exist.

Comment. Cerexagri, Inc. commented that the term postharvest associated with the tolerances for thiophanate-methyl residues of concern on apple, apricot, cherry, peach and plum is not appropriate because the use patterns are based on pre-harvest applications. Cerexagri, Inc. also took issue with the increase of the tolerance for thiophanate-methyl residues of concern on canola at 0.1 parts per million (ppm) to 0.2 ppm. They cited data and analytical methods which indicate the tolerance increase is not appropriate.

Agency response. The thiophanate-methyl Residue Chemistry Chapter and RED included recommendations that certain tolerances be designated as postharvest. The Agency agrees that the uses of thiophanate-methyl include pre-harvest applications such that the post-harvest designation is not appropriate. Therefore, the Agency has determined that the postharvest designation should not be linked to the tolerances in the 40 CFR. Therefore, EPA is removing the references to “postharvest” from the tolerances in 40 CFR 180.371. Cerexagri, Inc, also commented on the proposed tolerance level increase for canola from 0.1 to 0.2 ppm.

Setting the tolerance on canola at 0.2 ppm was recommended in the thiophanate-methyl RED based on an enforcement method limit of quantitation (LOQ) of 0.05 ppm. Crexagri believes that the tolerance on canola should remain at 0.1 ppm, the current tolerance level, based on an appropriate enforcement method LOQ of 0.025 ppm. The field trial data showed non-detectable residues of thiophanate-methyl and one sample with detection equivalent to 0.018 ppm of the metabolite methyl 2-benzimidazolyl carbamate (MBC). Later, Cerexagri submitted an addendum to the crop field trial data which details an estimation of a practical limit of detection (LOD) of 0.005 ppm in/on canola seed for MBC. The Agency believes that a viable LOQ is usually about 3x the method LOD, and therefore, an LOD would correspond to about a 0.015 ppm for the method. Consequently, the Agency believes that an LOD of 0.025 ppm is a conservative estimate. Based on the estimated method LOQ for the metabolite MBC, the Agency agrees that the canola seed tolerance should remain at 0.1 ppm in 40 CFR 180.371(c).

1. Chlorpropham. A plant commodity tolerance on potato for chlorpropham is currently regulated for residues of CIPC (isopropyl m-chlorocarbanilate) and its metabolite 1-hydroxy-2-propyl 3'-chlorocarbanilate (calculated as CIPC) in 40 CFR 180.181. Because the regulated metabolite was not detected in potato following treatment with radiolabelled 14C-chlorpropham, EPA determined that the tolerance expression for plants should be expressed in terms of chlorpropham per se. Meanwhile, the current interim milk and livestock tolerances in 40 CFR 180.319 are regulated for isopropyl m-chlorocarbanilate (CIPC) residues. However, based on available ruminant data that show residues of chlorpropham and its metabolite 4-hydroxychlorpropham-O-sulfonic acid (4-HSA) in milk and edible tissues, EPA determined that the tolerance expression should be expressed in terms of the combined residues of chlorpropham and 4-hydroxychlorpropham-O-sulfonic acid (4-HSA) and recodified under 40 CFR 180.181 as permanent tolerances. Therefore, EPA is recodifying plant tolerances for chlorpropham from 40 CFR 180.181(a) to (a)(1) and regulate the plant regulator and herbicide chlorpropham (isopropyl m-chlorocarbanilate (CIPC) in plants. Also, EPA is removing the interim milk and livestock tolerances (meat, fat, and meat byproducts of cattle, hog, horse, goat, and sheep) for chlorpropham in 40 CFR 180.319, recodify them as permanent tolerances in 40 CFR 180.181(a)(2) and regulate tolerances there for the plant growth regulator and herbicide chlorpropham (isopropyl m-chlorocarbanilate [CIPC]) and its metabolite 4-hydroxychlorpropham-O-sulfonic acid (4-HSA).

In addition, based on ruminant feeding data and the calculated maximum theoretical dietary burden (MTDB) estimates, EPA determined that tolerances on the meat of cattle, hog, horse, goat, and sheep should be increased from 0.05 to 0.06 parts per million (ppm), the limit of quantitation (LOQ). Also, based on exaggerated feeding study data that showed combined residues of concern in kidney at about 0.3 ppm, the Agency determined that tolerances for kidney of cattle, hog, horse, goat, and sheep should be separated from their existing meat byproduct tolerances at 0.05 ppm and increased to 0.30 ppm. Since the combined residues of concern were shown to be near or below the LOQ (0.06 ppm), the Agency determined that tolerances for meat byproducts, except kidney of cattle, hog, horse, goat, and sheep should be increased from 0.05 to 0.06 ppm. In addition, based on ruminant feeding data that showed combined residues of concern in fat at 0.17 ppm, the Agency determined that tolerances for the fat of cattle, hog, horse, goat, and sheep should be increased from 0.05 to 0.20 ppm. Moreover, based on ruminant feeding data and the maximum tolerated dietary burden (MTDB) burden estimates that showed combined residues of concern to be 0.25 ppm, the Agency determined that the tolerance for milk should be increased from 0.05 to 0.30 ppm. Therefore, EPA is increasing tolerances in newly recodified 40 CFR 180.181(a)(2) for the combined residues of chlorpropham and 4-hydroxychlorpropham-O-sulfonic acid (4-HSA) as follows: Milk from 0.05 to 0.30 ppm; cattle, fat; hog, fat; horse, fat; goat, fat; and sheep, fat from 0.05 to 0.20 ppm; cattle, meat; hog, meat; horse, meat; goat, meat; and sheep, meat from 0.05 to 0.06 ppm; cattle, meat byproducts, except kidney; hog, meat byproducts, except kidney; horse, meat byproducts, except kidney; goat, meat byproducts, except kidney; and sheep, meat byproducts, except kidney from 0.05 to 0.06 ppm; and cattle, kidney; hog, kidney; horse, kidney; goat, kidney; and sheep, kidney from 0.05 to 0.30 ppm. The Agency determined that the increased tolerances are safe; i.e., there is a reasonable certainty that no harm will result from aggregate exposure to the pesticide chemical residue.

Based on available potato field trial data that show chlorpropham residues as high as 24 ppm, the Agency determined that the tolerance in newly recodified 40 CFR 180.181(a)(1) should be decreased from 50 to 30 ppm. The term “postharvest” associating these tolerances with the timing of the use is being removed, since the enforcement Agency would not know whether a commodity bore residues resulting from postharvest treatment. Therefore, EPA is decreasing the tolerance in newly recodified 40 CFR 180.181(a)(1) in or on potato, postharvest from 50 to 30 ppm and revising potato, postharvest to potato.

Based on available potato processing data that demonstrate an average concentration factor of chlorpropham residues at 3X, and the highest average field trial (HAFT) whole potato residue of 12.0 ppm, the Agency determined that residues in the wet potato peel would be 36 ppm; therefore, a tolerance should be established on potato, wet peel at 40 ppm. (Residues did not concentrate in potato granules, flakes or chips.) Therefore, EPA is establishing a tolerance in newly recodified 40 CFR 180.181(a)(1) for the chlorpropham residues of concern or on potato, wet peel at 40 ppm.

2. Linuron. According to the TRED, the tolerance expression, which is currently expressed as “residues of the herbicide linuron (3-(3,4-dichlorophenyl)-1-methoxy-1-methylurea)” in 40 CFR 180.184(a) and (c), should be modified to include metabolites that can be converted to 3,4-dichloroaniline that are of toxicological concern. Consequently, EPA is establishing the tolerance expression in 40 CFR 180.184(a) to regulate the combined residues of the herbicide linuron (3-(3,4-dichlorophenyl)-1-methoxy-1-methylurea) and its metabolites convertible to 3,4-dichloroaniline, calculated as linuron in/on food commodities and in 40 CFR 180.184(c) to regulate the combined residues of the herbicide linuron (3-(3,4-dichlorophenyl)-1-methoxy-1-methylurea) and its metabolites convertible to 3,4-dichloroaniline, calculated as linuron in/on food commodities.

The feeding of treated soybean forage or hay to livestock is prohibited as stated on the registration labels and therefore, the tolerances are no longer needed. Consequently, EPA is revoking the tolerances in 40 CFR 180.184(a) soybean, forage and soybean, hay.

Based on field trial data that indicate linuron residues of concern in or on field corn stover are as high as 5.5 ppm, the Agency determined that a tolerance should be 6.0 ppm on corn, field, stover. The RED indicates a data deficiency for corn, sweet, stover; however, the field corn stover data can be translated to sweet corn stover, therefore, the Agency has determined the tolerance for corn, sweet, stover can be increased from 1.0 to 6.0 ppm. Therefore, EPA is increasing the tolerance in 40 CFR 180.184(a) for the combined residues of the herbicide linuron and its metabolites convertible to 3,4-dichloroaniline, calculated as linuron in or on corn, field, stover and corn, sweet, stover from 1.0 to 6.0 ppm. The Agency determined that the increased tolerance is safe; i.e., there is a reasonable certainty that no harm will result from aggregate exposure to the pesticide chemical residue.

In order to conform to current Agency practice, EPA is revising the commodity terminology in 40 CFR 180.184(a) for corn, grain (inc. pop) at 0.25 ppm into corn, field, grain and corn, pop, grain. However, because there are no active U.S. registrations for the use of linuron on popcorn, the tolerance is no longer needed and should be revoked. Therefore, EPA is revoking the tolerance in 40 CFR 180.184(a) on corn, pop, grain. In addition, based on field trial data that indicate linuron residues of concern in or on corn grain as high as 0.06 ppm, the Agency determined that the corn, field, grain tolerance should be decreased from 0.25 to 0.1 ppm. Therefore, EPA is decreasing the tolerance in 40 CFR 180.184(a) for the combined residues of the herbicide linuron and its metabolites convertible to 3,4-dichloroaniline, calculated as linuron in or on corn, field, grain from 0.25 to 0.1 ppm.

Ruminant feeding data at an exaggerated level (6.9x) show that linuron residues of concern expected at a 1x feeding level are 0.16 ppm in fat, 0.07 ppm in meat, 1.9 ppm in liver and kidney, and 0.05 ppm in milk. Based on these expected residue levels, the Agency determined that the tolerances for the fat of cattle, goat, horse and sheep should be decreased from 1.0 to 0.2 ppm; meat tolerances of cattle, goat, horse and sheep should be decreased from 1.0 to 0.1 ppm; meat byproduct tolerances of cattle, goat, horse, and sheep should be separated into tolerances for meat byproducts, except kidney and liver, and decreased from 1.0 to 0.1 ppm; kidney of cattle, goat, horse, and sheep, which should be established separately and increased from 1.0 to 2.0 ppm; liver of cattle, goat, horse, and sheep, which should be established separately and increased from 1.0 to 2.0 ppm; and a tolerance for milk should be established at 0.05 ppm. Therefore, EPA is decreasing tolerances from 1.0 ppm in 40 CFR 180.184(a) for the following: Cattle, fat; goat, fat; horse, fat; and sheep, fat; each to 0.2 ppm; cattle, meat; cattle, meat byproducts, except kidney and liver; goat, meat; goat, meat byproducts, except kidney and liver; horse, meat; horse, meat byproducts, except, kidney and liver; sheep, meat and sheep, meat byproducts, except kidney and liver; each from 1.0 ppm to 0.1 ppm. Also, EPA is establishing separate tolerances in 40 CFR 180.184(a) for the following commodities: Cattle, kidney; cattle, liver; goat, kidney; goat, liver; horse, kidney; horse, liver; sheep, kidney; and sheep, liver; each at 2.0 ppm. In addition, EPA is establishing a tolerance in 40 CFR 180.184(a) in milk at 0.05 ppm. The Agency determined that the increased tolerances are safe; i.e., there is a reasonable certainty that no harm will result from aggregate exposure to the pesticide chemical residue.

Based on ruminant feeding data and an estimated dietary burden in swine that is much less than that for beef and dairy cattle, the Agency calculated likely linuron residues of concern to be less than 0.007 ppm in hog fat, 0.003 ppm in hog meat, and 0.08 ppm in hog liver and kidney; therefore, the Agency determined the tolerances should be decreased to 0.05 ppm, 0.05 ppm and 0.1 ppm for hog fat, hog meat and hog meat byproducts, respectively. Therefore, EPA is decreasing tolerances in 40 CFR 180.184(a) for the combined residues of the herbicide linuron and its metabolites convertible to 3,4-dichloroaniline, calculated as linuron in or on hog, fat and hog, meat from 1.0 to 0.05 ppm; and hog, meat byproducts from 1.0 to 0.1 ppm.

Based on field trial data, the Agency determined that linuron residues of concern were non-detectable (<0.05 ppm) in or on parsnips. Therefore, EPA is decreasing the tolerance in 40 CFR 180.184(a) for the combined residues of the herbicide linuron and its metabolites convertible to 3,4-dichloroaniline, calculated as linuron in or on parsnip (with or without tops) from 0.5 to 0.05 ppm and revising the commodity terminology to parsnip, roots and parsnip, tops.

Since completion of the Linuron TRED, data deficiencies for cotton gin byproducts have been adequately addressed. Based on more recent cotton storage stability and field trial data reflecting all cotton growing regions of the U.S. submitted in response to the TRED, the maximum residues of linuron in or on stripper cotton gin byproducts were 3.32 ppm, the Agency determined that the tolerance should be established for cotton gin byproducts at 5.0 ppm. Therefore, EPA is establishing a tolerance in 40 CFR 180.184(a) for the combined residues of the herbicide linuron and its metabolites convertible to 3,4-dichloroaniline, calculated as linuron in or on cotton, gin byproducts at 5.0 ppm.

Because use of linuron on potatoes and celery is restricted to east of the Rocky Mountains, and use on wheat is restricted to the states of Idaho, Oregon, and Washington, the Agency determined that tolerances on celery, potato, and the forage, grain, hay and straw of wheat should be recodified as regional registrations. Also, based on field trial data that indicate combined linuron residues of concern were nondetectable (<0.05 ppm) in or on all but one sample (0.07 ppm) of potato, nondetectable (<0.03 ppm) in or on wheat grain, and as high as 2.0 ppm in or on wheat straw, the Agency determined that the tolerances should be decreased from 1.0 to 0.2 ppm on potato and from 0.25 to 0.05 ppm on wheat, grain, and increased to 0.5 to 2.0 ppm on wheat straw. Therefore, EPA is recodifying tolerances on celery, potato, and the forage, grain, hay and straw of wheat from 40 CFR 180.184(a) to (c) for the combined residues of the herbicide linuron and its metabolites convertible to 3,4-dichloroaniline, calculated as linuron as follows: Potato decreased from 1.0 to 0.2 ppm; wheat, grain decreased from 0.25 to 0.05 ppm; and wheat, straw increased from 0.5 to 2.0 ppm and correcting 180.1(N) to 180.1(M). The Agency determined that the increased tolerance is safe; i.e. there is a reasonable certainty that no harm will result from aggregate exposure to the pesticide chemical residue.

Interregional Research Project #4 (IR-4) has submitted petitions (PP 8E5027 and PP 8E5028) requesting the establishment of tolerances on celeriac and rhubarb based on use directions and data translated from carrots and celery, respectively. Based on field trial data that show linuron residues of concern for carrot samples treated at 0.75X were as high as 0.56 ppm and celery samples treated at 1X were as high as 0.42 ppm, the Agency determined that tolerances should be established at 1.0 ppm on celeriac and 0.5 ppm on rhubarb. Therefore, EPA is establishing tolerances in 40 CFR 180.184(a) for the combined residues of the herbicide linuron and its metabolites convertible to 3,4-dichloroaniline, calculated as linuron in or on celeriac at 1.0 ppm and rhubarb at 0.5 ppm.

Although additional data are anticipated in 2007 in response to the TRED, tolerances associated with sorghum and sweet corn have been reassessed at the current tolerance levels. The Agency determined that the tolerances are safe; i.e. there is a reasonable certainty that no harm will result from aggregate exposure to the pesticide chemical residues. EPA is maintaining the tolerance level and revising the commodity terminology in 40 CFR 180.184(a) to conform to current Agency practice as follows: “Sorghum, forage” to “sorghum, grain, forage” at 1.0 ppm; “corn, fresh (inc. sweet, kernel plus cob with husks removed)” to “corn, sweet, kernel plus cob with husks removed” at 0.25 ppm; and splitting “soybean, (dry or succulent)” to separate tolerances fo “soybean, seed” and “soybean, vegetable” both at 1.0 ppm.

3. Pebulate. The last U.S. registration was cancelled October 24, 2003 due to non-payment of registration fees and a notice was published in the Federal Register on November 6, 2003 (68 FR 62785, FRL-7331-3). Therefore, tolerances are no longer needed and EPA is revoking the tolerances in 40 CFR 180.238 for residues of pebulate (S-propyl butylethylthiocarbamate) in or on beet, sugar roots; beet sugar, tops; and tomato.

4. Asulam. The tolerance expression in 40 CFR 180.360 currently regulates asulam (methyl sulfanilylcarbamate) per se. The Agency recommended in the asulam TRED that the tolerance expression be revised to include metabolites containing the sulfanilamide moiety because in the absence of toxicological data the Agency assumed these compounds to be potentially comparable in toxicity to the parent compound, asulam. Therefore, EPA is revising the tolerance expression in 40 CFR 180.360 to read as follows: “(a) General. Tolerances are established for the combined residues of asulam (methyl sulfanilylcarbamate) and its metabolites containing the sulfanilamide moiety in or on the following food commodities.”

Based on field trial data that showed asulam residues of concern as high as 0.23 ppm and a correction for a 70% loss of residues during storage, the Agency calculated that the maximum residue should be 0.71 ppm, and determined that the tolerance on sugarcane should be increased form 0.1 to 1.0 ppm. Therefore, EPA is increasing the tolerance in 40 CFR 180.360(a) for the combined residues of asulam and its metabolites containing the sulfanilamide moiety in or on sugarcane, cane from 0.1(N) to 1.0 ppm. The Agency is removing the “N” (negligible residues) to conform to current Agency Administrative practice. The Agency determined that the increased tolerance is safe; i.e. there is a reasonable certainty that no harm will result from aggregate exposure to the pesticide chemical residue.

Based on available sugarcane processing data that show an average concentration factor of asulam residues at 48x and a HAFT residue value that when corrected for a 70% loss in storage is expected to be 0.557 ppm (0.167 ppm/0.3), the Agency calculated that the residues would be about 26.7 ppm and determined a tolerance should be established for sugarcane molasses at 30 ppm. Therefore, EPA is establishing a tolerance in 40 CFR 180.360(a) for the combined residues of asulam and its metabolites containing the sulfanilamide moiety in or on sugarcane, molasses at 30 ppm.

Based on a 1.2x exaggerated feeding study, animal metabolism data and a ruminant diet containing 10% molasses (a livestock feed item), the Agency determined that because the anticipated residues of asulam and sulfanilamide containing metabolites in milk are <0.025 ppm, in/on fat, liver, and muscle are <0.05 ppm, and kidney is 0.12 ppm, that tolerances should be established in milk, and on the fat and meat of cattle, goats, hogs, horses, and sheep at 0.05 ppm, and meat byproducts of cattle, goats, hogs, horses, and sheep at 0.2 ppm. Therefore, EPA is establishing tolerances in 40 CFR 180.360(a) for the combined residues of asulam and its metabolites containing the sulfanilamide moiety in/on commodities, as follows: Cattle, fat; goat, fat; hog, fat; horse, fat; and sheep, fat; cattle, meat; goat, meat; hog, meat; horse, meat; and sheep, meat at 0.05 ppm; and cattle, meat byproducts; goat, meat byproducts; hog, meat byproducts; horse, meat byproducts; and sheep, meat byproducts at 0.2 ppm; and milk at 0.05 ppm.

5. Thiophanate-methyl. Currently, the tolerances for thiophanate-methyl are expressed in 40 CFR 180.371(a) in terms of thiophanate-methyl(dimethyl regulates thiophanate-methyl and its oxygen analogue dimethyl-4,4-o-phenylenebis(allophonate), and its benzimidazole-containing metabolites (calculated as thiophanate-methyl); and in 40 CFR 180.371(b) and (c) in terms of thiophanate-methyl and its metabolite (methyl 2-benzimidazoyl carbamate (MBC)). The Agency has determined that the residues of concern for plant and animal commodities for tolerance enforcement consists of the parent and its metabolite methyl 2-benzimidazolyl carbamate (MBC). Therefore, EPA is amending the tolerance expression in 40 CFR 180.371(a), (b), and (c) so as to regulate tolerances for the combined residues of thiophanate-methyl (dimethyl[(1,2-phenylene) bis(iminocarbonothioyl)] bis(carbamate)) and its metabolite methyl 2-benzimidazoyl carbamate (MBC), calculated as thiophanate-methyl in/on food commodities.

EPA no longer considers dry apple pomace, banana pulp, and bean forage and hay, and peanut forage to be significant animal feed items and tolerances are no longer needed (A listing of significant food and feed commodities is found in “Table 1.—Raw Agricultural and Processed Commodities and Feedstuffs Derived from Crops” which is found in Residue Chemistry Test Guidelines OPPTS 860.1000 dated August 1996, available at http://www.epa.gov/opptsfrs/publications/OPPTS_Harmonized/ 860_Residue_Chemistry_Test_Guidelines/Series/). Currently, there is a tolerance in 40 CFR 180.371 on peanut (forage and hay). Based on field trial data that show thiophanate-methyl residues of concern as high as 3.76 ppm, the Agency has determined that the tolerance on peanut hay should be decreased from 15.0 to 5.0 ppm. In addition, thiophanate-methyl registrations were approved by EPA to be amended to delete use on celery by request of the registrant in 1997 (62 FR 67365, FRL-5761-8). Therefore, EPA is revoking the tolerances in 40 CFR 180.371(a) on apple, dry pomace; banana, pulp; bean (forage and hay), and celery, and revise the commodity terminology from peanut (forage and hay) into separate tolerance for peanut, forage and peanut, hay, and revoke peanut forage, and decrease peanut, hay from 15.0 to 5.0 ppm.

Based on available exaggerated (10x) poultry feeding data, EPA determined that there is no reasonable expectation of finite thiophanate-methyl residues of concern in poultry commodities and therefore, the tolerance for egg (the only existing poultry commodity tolerance) is no longer needed under 40 CFR 180.6(a)(3). Therefore, EPA is revoking the tolerance in 40 CFR 180.371 for egg.

Based on the available ruminant feeding study, the Agency determined that the thiophanate-methyl residues of concern in milk and animal tissues were at the combined limit of quantitations (LOQs) of 0.05 ppm. Therefore, the tolerances for the milk and fat, meat and meat byproducts of cattle, goat, horse, and sheep should be increased to 0.15 ppm. Since the tolerance should be 0.15 ppm for all meat byproducts which includes liver and kidney tissues, the tolerances should be revised from “meat byproducts, except liver and kidney” to “meat byproducts” and the tolerances for “horse, liver” and “cattle, goat, and sheep liver and kidney” should be removed. Further, the Agency is removing the “(N)” (negligible residues) designation to conform to current Agency administrative practice. Therefore, EPA is increasing the tolerances in 40 CFR 180.371 for the combined residues of thiophanate-methyl and methyl 2-benzimidazolyl carbamate in or on milk from 0.1 to 0.15 ppm; cattle, goats, horses, and sheep meat and fat from 0.1(N) to 0.15 ppm; revising “cattle, goats, and sheep meat byproducts, except liver and kidney at 0.1(N)” and “horse, meat byproducts, except liver at 0.1(N)” to “cattle, goats, horses, and sheep meat byproducts at 0.15 ppm”; and removing cattle, goats, and sheep liver each at 2.5 ppm; horse, liver at 1.0 ppm; cattle, kidney at 0.2(N) ppm; and goat and sheep kidney each at 0.2 ppm. The Agency determined that the increased tolerances are safe; i.e. there is a reasonable certainty that no harm will result from aggregate exposure to the pesticide chemical residue.

Based on field trial data that show thiophanate-methyl residues of concern as high as 16.25 ppm in/on tart and sweet cherries, 6.22 ppm on strawberries, less than the LOQ (<0.1 ppm) on wheat, the Agency determined that the tolerances should be increased on cherries from 15.0 to 20.0, on strawberries from 5.0 to 7.0 ppm, and on wheat, grain from 0.05 to 0.1 ppm. Therefore, EPA is increasing and revising the tolerances in 40 CFR 180.371(a) for the combined residues of thiophanate-methyl and methyl 2-benzimidazolyl carbamate in/on cherry, postharvest at 15.0 to cherry, sweet and cherry, tart at 20.0 ppm, strawberry from 5.0 to 7.0 ppm, and wheat, grain from 0.05 to 0.1 ppm. The Agency determined that the increased tolerance is safe; i.e. there is a reasonable certainty that no harm will result from aggregate exposure to the pesticide chemical residue.

Based on the available field trial data that indicate thiophanate-methyl and methyl 2-benzimidazolyl carbamate residues of concern were less than 2.0 ppm in/on apples, less than the combined LOQs (<0.1 ppm each) in/on almond nutmeat and as high as 0.49 ppm in/on almond hulls, <0.1 ppm in/on pecans and peanut nutmeat, as high as 0.19 ppm in/on dry beans (as high as 1.43 ppm on snap beans), as high as 2.55 ppm in/on peaches, and less than 0.5 ppm in/on plums, the Agency determined that established tolerances should be decreased for apples; almonds; almond, hulls; dry beans; peaches; peanuts; peanut hay; pecans; and plums. Therefore, EPA is decreasing the tolerances in 40 CFR 180.371(a) for the combined residues of thiophanate-methyl and methyl 2-benzimidazolyl carbamate in/on apple, postharvest from 7.0 to 2.0 ppm; almond from 0.2(N) to 0.1 ppm; almond, hulls from 1.0 to 0.5 ppm; dry, beans from 2.0 to 0.2 ppm and revise the commodity terminology from bean (snap and dry) to bean, snap, succulent at 0.2 ppm and bean, dry, seed at 0.2 ppm; peach, postharvest from 15.0 to 3.0 ppm; peanut from 0.2(N) to 0.1 ppm; pecans from 0.2 ppm to 0.1 ppm, and revise the commodity terminology from plum, postharvest from 15.0 to 0.5 ppm.

In accordance with 40 CFR 180.1(h), residues in/on nectarines are covered by the reassessed tolerance on peaches, and therefore the tolerance on postharvest nectarines is no longer needed. Therefore, EPA is proposing to remove the tolerance in 40 CFR 180.371(a) on nectarine, postharvest.

Based on plum processing data form plums treated at 10x that show thiophanate-methyl residues of concern do not concentrate in prunes, the Agency determined that the tolerance on plum, prune, postharvest is no longer needed since residues in/on prunes would be covered by the reassessed tolerance on plum, postharvest at 0.5 ppm. Therefore, EPA is removing the tolerance in 40 CFR 180.371(a) on plum, prune, postharvest.

Based on field trial data that show thiophanate-methyl residues of concern in or on dry bulb onions as high as 0.30 ppm, the Agency determined that the tolerance onion, dry should be decreased from 3.00 to 0.5 ppm and residues on garlic are covered by the bulb onion tolerance in accordance with 40 CFR 180.1(h). EPA is decreasing the tolerance in 40 CFR 180.371 for the combined thiophanate-methyl residues of concern in/on onion, dry from 3.0 to 0.5 ppm and revising the term to onion, bulb.

Based upon the HAFT residues of 0.2 ppm in/on soybeans and the observed 6.5X concentration factor for hulls, the Agency determined that a separate tolerance should be established on soybean hulls at 1.5 ppm. Therefore, EPA is establishing a tolerance in 40 CFR 180.371(a) for the combined residues of thiophanate-methyl and methyl 2-benzimidazolyl carbamate in/on soybean, hulls at 1.5 ppm.

The available field trial residue data in/on cucumbers, melons, pumpkins, and squash are adequate to support a cucurbit vegetable group 9 tolerance at 1.0 ppm. Because a crop group tolerance covers all of the cucurbit vegetables, individual tolerances are no longer needed. Therefore, EPA is removing the individual tolerances in 40 CFR 180.371(a) in/on cucumber, melon, pumpkin, and squash at 1.0 ppm, and combining them into a crop group tolerance on vegetable, cucurbit, group 9 at 1.0 ppm.

As discussed in the comments in Unit II.A., the thiophanate-methyl Residue Chemistry Chapter and RED included recommendations that certain tolerances be designated as postharvest when the use is not solely postharvest. Therefore, the term postharvest should be removed. The Agency has determined that timings of treatment should not be included as part of these tolerances because a tolerance enforcement agency collecting and analyzing samples wouldn't know whether a commodity bore residues resulting from a seed treatment. The Agency is revising commodity terminology to conform to current Agency practice. Therefore, EPA is revising tolerances in 40 CFR 180.371(a) as follows: “Apple, postharvest” to “apple;” “apricot, postharvest” to “apricot;” “cherry, postharvest” to “cherry;” “peach, postharvest” to “peach;” “plum, postharvest” to “plum;” “sugar beet, roots” to “beet, sugar, roots;” “sugar beet, tops” to “beet, sugar, tops;” “soybean” to “soybean, seed;” “sugarcane, seed piece treatment PRE-H” to “sugarcane, cane” and in 40 CFR 180.371(b) from “cotton” to “cotton, undelinted seed.”

B. What is the Agency's Authority for Taking this Action?

EPA may issue a regulation establishing, modifying, or revoking a tolerance under section 408(e) of FFDCA. In this final rule, EPA is establishing, modifying, and revoking tolerances to implement the tolerance recommendations made during the reregistration and tolerance reassessment processes, and as follow-up on canceled uses of pesticides. As part of these processes, EPA is required to determine whether each of the amended tolerances meets the safety standards under the Food Quality Protection Act (FQPA). The safety finding determination is found in detail in each Reregistration Eligibility Document (RED) and Tolerance Reassessment Document (TRED) for the active ingredient. REDs and TREDs recommend the implementation of certain tolerance actions, including modifications to reflect current use patterns, to meet safety findings, and change commodity names and groupings in accordance with new EPA policy. Printed and electronic copies of the REDs and TREDs are available as provided in Unit II.A.

EPA has issued post-FQPA REDs for pebulate and thiophanate-methyl and TREDs for chlorpropham, linuron, and asulam, which had REDs completed prior to FQPA. REDs and TREDs contain the Agency's evaluation of the data base for these pesticides, including statements regarding additional data on the active ingredients that may be needed to confirm the potential human health and environmental risk assessments associated with current product uses, and REDs state conditions under which these uses and products will be eligible for reregistration. The REDs and TREDs recommended the establishment, modification, and/or revocation of specific tolerances. RED and TRED recommendations such as establishing or modifying tolerances, and in some cases revoking tolerances, are the result of assessment under the FQPA standard of “reasonable certainty of no harm.” However, tolerance revocations recommended in REDs and TREDs that are made final in this document do not need such assessment when the tolerances are no longer necessary.

EPA's general practice is to revoke tolerances for residues of pesticide active ingredients on crops for which FIFRA registrations no longer exist and on which the pesticide may therefore no longer be used in the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

When EPA establishes tolerances for pesticide residues in or on raw agricultural commodities, the Agency gives consideration to possible pesticide residues in meat, milk, poultry, and/or eggs produced by animals that are fed agricultural products (for example, grain or hay) containing pesticides residues (40 CFR 180.6). If there is no reasonable expectation of finite pesticide residues in or on meat, milk, poultry, or eggs, then tolerances do not need to be established for these commodities (40 CFR 180.6(b) and 180.6(c)).

C. When Do These Actions Become Effective?

These actions become effective on the date of publication of this final rule in the Federal Register because their associated uses have been canceled for several years. The Agency believes that treated commodities have had sufficient time for passage through the channels of trade.

Any commodities listed in the regulatory text of this document that are treated with the pesticides subject to this final rule, and that are in the channels of trade following the tolerance revocations, shall be subject to section 408(1)(5) of FFDCA, as established by the FQPA. Under this section, any residues of these pesticides in or on such food shall not render the food adulterated so long as it is shown to the satisfaction of the Food and Drug Administration that:

1. The residue is present as the result of an application or use of the pesticide at a time and in a manner that was lawful under FIFRA, and

2. The residue does not exceed the level that was authorized at the time of the application or use to be present on the food under a tolerance or exemption from tolerance. Evidence to show that food was lawfully treated may include records that verify the dates that the pesticide was applied to such food.

III. Are There Any International Trade Issues Raised by this Final Action?

In making its tolerance decisions, EPA seeks to harmonize U.S. tolerances with international standards whenever possible, consistent with U.S. food safety standards and agricultural practices. EPA considers the international Maximum Residue Limits (MRLs) established by the Codex Alimentarius Commission, as required by Section 408(b)(4) of FFDCA. The Codex Alimentarius is a joint U.N. Food and Agriculture Organization/World Health Organization food standards program, and it is recognized as an international food safety standards-setting organization in trade agreements to which the United States is a party. EPA may establish a tolerance that is different from a Codex MRL; however, section 408(b)(4) of FFDCA requires that EPA explain the reasons for departing from the Codex level in a notice published for public comment. EPA's effort to harmonize with Codex MRLs is summarized in the tolerance reassessment section of individual REDs and TREDs, and in the Residue Chemistry document which supports the RED and TRED, as mentioned in the proposed rule cited in Unit II.A.

IV. Statutory and Executive Order Reviews

In this final rule EPA establishes tolerances under section 408(e) of FFDCA, and also modifies and revokes specific tolerances established under section 408 of FFDCA. The Office of Management and Budget (OMB) has exempted these types of actions (i.e., establishment and modification of a tolerance and tolerance revocation for which extraordinary circumstances do not exist) from review under Executive Order 12866, entitled Regulatory Planning and Review (58 FR 51735, October 4, 1993). Because this rule has been exempted from review under Executive Order 12866 due to its lack of significance, this rule is not subject to Executive Order 13211, Actions Concerning Regulations That Significantly Affect Energy Supply, Distribution, or Use (66 FR 28355, May 22, 2001). This final rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations as required by Executive Order 12898, entitled Federal Actions to Address Environmental Justice in Minority Populations and Low-Income Populations (59 FR 7629, February 16, 1994); or OMB review or any other Agency action under Executive Order 13045, entitled Protection of Children from Environmental Health Risks and Safety Risks(62 FR 19885, April 23, 1997). This action does not involve any technical standards that would require Agency consideration of voluntary consensus standards pursuant to section 12(d) of the National Technology Transfer and Advancement Act of 1995 (NTTAA), Public Law 104-13, section 12(d) (15 U.S.C. 272 note). Pursuant to the Regulatory Flexibility Act (RFA) (5 U.S.C. 601 et seq.), the Agency previously assessed whether establishment of tolerances, exemptions from tolerances, raising of tolerance levels, expansion of exemptions, or revocations might significantly impact a substantial number of small entities and concluded that, as a general matter, these actions do not impose a significant economic impact on a substantial number of small entities. These analyses for tolerance establishments and modifications, and for tolerance revocations were published on May 4, 1981 (46 FR 24950) and on December 17, 1997 (62 FR 66020), respectively, and were provided to the Chief Counsel for Advocacy of the Small Business Administration. Taking into account this analysis, and available information concerning the pesticides listed in this rule, the Agency hereby certifies that this final rule will not have a significant economic impact on a substantial number of small entities. In a memorandum dated May 25, 2001, EPA determined that eight conditions must all be satisfied in order for an import tolerance or tolerance exemption revocation to adversely affect a significant number of small entity importers, and that there is a negligible joint probability of all eight conditions holding simultaneously with respect to any particular revocation. (This Agency document is available in the docket of this proposed rule). Furthermore, for the pesticides named in this final rule, the Agency knows of no extraordinary circumstances that exist as to the present revocations that would change EPA's previous analysis. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This final rule directly regulates growers, food processors, food handlers and food retailers, not States. This action does not alter the relationships or distribution of power and responsibilities established by Congress in the preemption provisions of section 408(n)(4) of FFDCA. For these same reasons, the Agency has determined that this rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This rule will not have substantial direct effects on tribal governments, on the relationship between the Federal Government and Indian tribes, or on the distribution of power and responsibilities between the Federal Government and Indian tribes, as specified in Executive Order 13175. Thus, Executive Order 13175 does not apply to this rule.

V. Congressional Review Act

The Congressional Review Act, 5 U.S.C. 801 et seq., generally provides that before a rule may take effect, the agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: July 2, 2007.
Debra Edwards,
Director, Office of Pesticide Programs.

Therefore, 40 CFR chapter I is amended as follows:

PART 180—[AMENDED]

1. The authority citation for part 180 continues to read as follows:

Authority: 21 U.S.C. 321(q), 346a and 371.

2. Section 180.181 is amended by revising the heading and paragraph (a) to read as follows:

§180.181 Chlorpropham; tolerances for residues.

(a) General. (1) Tolerances are established for residues of the plant regulator and herbicide chlorpropham (isopropyl m-chlorocarbanilate (CIPC) in or on the following food commodities:

Commodity | Parts per million
Potato | 30
Potato, wet peel | 40

(2) Tolerances are established for the combined residues of the plant regulator and herbicide chlorpropham (isopropyl m-chlorocarbanilate (CIPC) and its metabolite 4-hydroxychlorpropham-O-sulfonic acid (4-HSA) in or on the following food commodities:

Commodity | Parts per million
Cattle, fat | 0.20
Cattle, kidney | 0.30
Cattle, meat | 0.06
Cattle, meat byproducts except kidney | 0.06
Goat, fat | 0.20
Goat, kidney | 0.30
Goat, meat | 0.06
Goat, meat byproducts except kidney | 0.06
Hog, fat | 0.20
Hog, kidney | 0.30
Hog, meat | 0.06
Hog, meat byproducts except kidney | 0.06
Horse, fat | 0.20
Horse, kidney | 0.30
Horse, meat | 0.06
Horse, meat byproducts except kidney | 0.06
Milk | 0.30
Sheep, fat | 0.20
Sheep, kidney | 0.30
Sheep, meat | 0.06
Sheep, meat byproducts except kidney | 0.06

3. Section 180.184, paragraphs (a) and (c) are revised to read as follows:

§180.184 Linuron; tolerances for residues.

(a) General. Tolerances are established for the combined residues of the herbicide linuron (3-(3,4-dichlorophenyl)-1-methoxy-1-methylurea) and its metabolites convertible to 3,4-dichloroaniline, calculated as linuron, in or on the following food commodities:

Commodity | Parts per million
Asparagus | 7.0
Carrot, roots | 1.0
Cattle, fat | 0.2
Cattle, kidney | 2.0
Cattle, liver | 2.0
Cattle, meat | 0.1
Cattle, meat byproducts except kidney and liver | 0.1
Celeriac | 1.0
Corn, field, forage | 1.0
Corn, field, grain | 0.1
Corn, field, stover | 6.0
Corn, sweet, forage | 1.0
Corn, sweet, kernel plus cob with husks removed | 0.25
Corn, sweet, stover | 6.0
Cotton, gin byproducts | 5.0
Cotton, undelinted seed | 0.25
Goat, fat | 0.2
Goat, kidney | 2.0
Goat, liver | 2.0
Goat, meat | 0.1
Goat, meat byproducts except kidney and liver | 0.1
Hog, fat | 0.05
Hog, meat | 0.05
Hog, meat byproducts | 0.1
Horse, fat | 0.2
Horse, kidney | 2.0
Horse, liver | 2.0
Horse, meat | 0.1
Horse, meat byproducts except kidney and liver | 0.1
Milk | 0.05
Parsnip, roots | 0.05
Parsnip, tops | 0.05
Rhubarb | 0.5
Sheep, fat | 0.2
Sheep, kidney | 2.0
Sheep, liver | 2.0
Sheep, meat | 0.1
Sheep, meat byproducts except kidney and liver | 0.1
Sorghum, grain, forage | 1.0
Sorghum, grain, grain | 0.25
Sorghum, grain, stover | 1.0
Soybean, seed | 1.0
Soybean, vegetable | 1.0

(c) Tolerances with regional registrations. Tolerances with regional registrations, as defined in §180.1(m), are established for the combined residues of the herbicide linuron (3-(3,4-dichlorophenyl)-1-methoxy-1-methylurea) and its metabolites convertible to 3,4-dichloroaniline, calculated as linuron, in or on the following food commodities:

Commodity | Parts per million
Celery | 0.5
Parsley, leaves | 0.25
Potato | 0.2
Wheat, forage | 0.5
Wheat, grain | 0.05
Wheat, hay | 0.5
Wheat, straw | 2.0

§ 180.238 [Removed]

4. Section 180.238 is removed.

§ 180.319 [Amended]

5. Section 180.319 is amended by removing from the table the entry isopropyl m-chlorocarbanilate (IPC).

6. Section 180.360, paragraph (a) is revised to read as follows:

§ 180.360 Asulam; tolerances for residues.

(a) General. Tolerances are established for the combined residues of asulam (methyl sulfanilylcarbamate) and its sulfanilamide containing metabolites in or on the following food commodities:

Commodity | Parts per million
Cattle, fat | 0.05
Cattle, meat | 0.05
Cattle, meat byproducts | 0.2
Goat, fat | 0.05
Goat, meat | 0.05
Goat, meat byproducts | 0.2
Hog, fat | 0.05
Hog, meat | 0.05
Hog, meat byproducts | 0.2
Horse, fat | 0.05
Horse, meat | 0.05
Horse, meat byproducts | 0.2
Milk | 0.05
Sheep, fat | 0.05
Sheep, meat | 0.05
Sheep, meat byproducts | 0.2
Sugarcane, cane | 1.0
Sugarcane, molasses | 30

7. Section 180.371, paragraphs (a), (b), and (c) are revised to read as follows:

§ 180.371 Thiophanate-methyl; tolerances for residues.

(a) General. Tolerances are established for the combined residues of thiophanate-methyl (dimethyl [(1,2-phenylene) bis (iminocarbonothioyl)] bis(carbamate)) and its metabolite methyl 2-benzimidazoyl carbamate (MBC), calculated as thiophanate-methyl in or on the following commodities:

Commodity | Parts per million
Almond | 0.1
Almond, hulls | 0.5
Apple | 2.0
Apricot | 15.0
Banana | 2.0
Bean, dry, seed | 0.2
Bean, snap, succulent | 0.2
Beet, sugar, roots | 0.2
Beet, sugar, tops | 15.0
Cattle, fat | 0.15
Cattle, meat | 0.15
Cattle, meat byproducts | 0.15
Cherry, sweet | 20.0
Cherry, tart | 20.0
Goat, fat | 0.15
Goat, meat | 0.15
Goat, meat byproducts | 0.15
Grape | 5.0
Horse, fat | 0.15
Horse, meat | 0.15
Horse, meat byproducts | 0.15
Milk | 0.15
Onion, bulb | 0.5
Onion, green | 3.0
Peach | 3.0
Peanut | 0.1
Peanut, hay | 5.0
Pear | 3.0
Pecan | 0.1
Pistachio | 0.1
Plum | 0.5
Potato | 0.1
Sheep, fat | 0.15
Sheep, meat | 0.15
Sheep, meat byproducts | 0.15
Soybean, seed | 0.2
Soybean, hulls | 1.5
Strawberry | 7.0
Sugarcane, cane | 0.1
Vegetable, cucurbit, group 9 | 1.0
Wheat, grain | 0.1
Wheat, hay | 0.1
Wheat, straw | 0.1

(b) Section 18 emergency exemptions. Tolerances are established for the combined residues of thiophanate-methyl (dimethyl [(1,2-phenylene) bis (iminocarbonothioyl)] bis(carbamate)) and its metabolite methyl 2-benzimidazoyl carbamate (MBC), calculated as thiophanate-methyl in or on the following commodities:

Commodity | Parts per million | Expiration/Revocation Date
Blueberry | 1.5 | 6/30/09
Citrus | 0.5 | 6/30/09
Cotton, gin byproducts | 5.0 | 12/31/07
Cotton, undelinted seed | 0.05 | 12/31/07
Mushroom | 0.01 | 12/31/07
Vegetable, fruiting, group 8 | 0.5 | 12/31/08

(c) Tolerances with regional registrations. Tolerances with a regional registration, as defined in 180.1(m), are established for the combined residues of thiophanate-methyl(dimethyl[(1,2-phenylene)bis(iminocarbonothioyl)]bis(carbamate)) and its metabolite methyl 2-benzimidazoyl carbamate (MBC), calculated as thiophanate-methyl in or on the following commodities:

Commodity | Parts per million
Canola, seed | 0.1

[FR Doc. E7-13420 Filed 7-10-07; 8:45 am]

BILLING CODE 6560-50-S